UNITED STATES INSTITUTE OF PEACE

Notice of Meeting

Date/Time: Thursday, January 20, 2011 (9:30 a.m.-5:30 p.m.); Friday, January 21, 2011 (9 a.m.-12:30 p.m.).

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: January 20-21, 2011 Board Meeting; Approval of Minutes of the One Hundred Thirty-Eighth Meeting (September 15, 2010) of the Board of Directors; Chairman's Report; President's Report; Introduction of the Senior Fellows Slate; Strategic Plan Update; Building Move Issues; Board Executive Session; Other General Issues.

Contact: Tessie F. Higgs, Executive Office. Telephone: (202) 429-3836.

Dated: December 29, 2010.
Michael Graham,
Vice President for Management and CFO, United States Institute of Peace.

[FR Doc. 2010-33246 Filed 1-5-11; 8:45 am]

BILLING CODE 6820-AR-M